POSTAL REGULATORY COMMISSION

[Docket Nos. MC2024-708 and K2024-1; MC2024-709 and K2024-2; MC2024-710 and K2024-3; MC2024-711 and K2024-4; MC2024-712 and K2024-5; MC2024-713 and K2024-6; MC2024-714 and K2024-7; MC2024-715 and K2024-8; MC2024-716 and K2024-9; MC2024-717 and K2024-10]

New Postal Products

AGENCY: Postal Regulatory Commission.

ACTION: Notice.

SUMMARY: The Commission is noticing a recent Postal Service filing for the Commission's consideration concerning a negotiated service agreement. This notice informs the public of the filing, invites public comment, and takes other administrative steps.

DATES: Comments are due: September 27, 2024.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Docketed Proceeding(s)

I. Introduction

Pursuant to 39 CFR 3041.405, the Commission gives notice that the Postal Service filed request(s) for the Commission to consider matters related to negotiated service agreement(s). The request(s) may propose the addition or removal of a negotiated service agreement from the Market Dominant or the Competitive product list, or the modification of an existing product currently appearing on the Market Dominant or the Competitive product list.

Section II identifies the docket number(s) associated with each Postal Service request, the title of each Postal Service request, the request's acceptance date, and the authority cited by the Postal Service for each request. For each request, the Commission appoints an officer of the Commission to represent the interests of the general public in the proceeding, pursuant to 39 U.S.C. 505 (Public Representative). Section II also establishes comment deadline(s) pertaining to each request.

The public portions of the Postal Service's request(s) can be accessed via the Commission's website (http://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

The Commission invites comments on whether the Postal Service's request(s) in the captioned docket(s) are consistent with the policies of title 39. For request(s) that the Postal Service states concern Market Dominant product(s), applicable statutory and regulatory requirements include 39 U.S.C. 3622, 39 U.S.C. 3642, 39 CFR part 3030, and 39 CFR part 3040, subpart B. For request(s) that the Postal Service states concern Competitive product(s), applicable statutory and regulatory requirements include 39 U.S.C. 3632, 39 U.S.C. 3633, 39 U.S.C. 3642, 39 CFR part 3035, and 39 CFR part 3040, subpart B. Comment deadline(s) for each request appear in section II.

II. Docketed Proceeding(s)

1. Docket No(s).: MC2024-708 and K2024-1; Filing Title: USPS Request to Add Priority Mail Express, Priority Mail & USPS Ground Advantage Contract 359 to Competitive Product List and Notice of Filing Materials Under Seal; Filing Acceptance Date: September 19, 2024; Filing Authority: 39 U.S.C. 3642, 39 CFR 3035.105, and 3041.310; Public Representative: Christopher C. Mohr; Comments Due: September 27, 2024.

2. Docket No(s).: MC2024-709 and K2024-2; Filing Title: USPS Request to Add Priority Mail Express, Priority Mail & USPS Ground Advantage Contract 360 to Competitive Product List and Notice of Filing Materials Under Seal; Filing Acceptance Date: September 19, 2024; Filing Authority: 39 U.S.C. 3642, 39 CFR 3035.105, and 3041.310; Public Representative: Kenneth R. Moeller; Comments Due: September 27, 2024.

3. Docket No(s).: MC2024-710 and K2024-3; Filing Title: USPS Request to Add Priority Mail Express, Priority Mail & USPS Ground Advantage Contract 361 to Competitive Product List and Notice of Filing Materials Under Seal; Filing Acceptance Date: September 19, 2024; Filing Authority: 39 U.S.C. 3642, 39 CFR 3035.105, and 3041.310; Public Representative: Jennaca D. Upperman; Comments Due: September 27, 2024.

4. Docket No(s).: MC2024-711 and K2024-4; Filing Title: USPS Request to Add Priority Mail Express, Priority Mail & USPS Ground Advantage Contract 362 to Competitive Product List and Notice of Filing Materials Under Seal; Filing Acceptance Date: September 19, 2024; Filing Authority: 39 U.S.C. 3642, 39 CFR 3035.105, and 3041.310; Public Representative: Gregory S. Stanton; Comments Due: September 27, 2024.

5. Docket No(s).: MC2024-712 and K2024-5; Filing Title: USPS Request to Add Priority Mail Express, Priority Mail & USPS Ground Advantage Contract 363 to Competitive Product List and Notice of Filing Materials Under Seal; Filing Acceptance Date: September 19, 2024; Filing Authority: 39 U.S.C. 3642, 39 CFR 3035.105, and 3041.310; Public Representative: Almaroof Agoro; Comments Due: September 27, 2024.

6. Docket No(s).: MC2024-713 and K2024-6; Filing Title: USPS Request to Add Priority Mail & USPS Ground Advantage Contract 355 to Competitive Product List and Notice of Filing Materials Under Seal; Filing Acceptance Date: September 19, 2024; Filing Authority: 39 U.S.C. 3642, 39 CFR 3035.105, and 3041.310; Public Representative: Kenneth R. Moeller; Comments Due: September 27, 2024.

7. Docket No(s).: MC2024-714 and K2024-7; Filing Title: USPS Request to Add Priority Mail & USPS Ground Advantage Contract 356 to Competitive Product List and Notice of Filing Materials Under Seal; Filing Acceptance Date: September 19, 2024; Filing Authority: 39 U.S.C. 3642, 39 CFR 3035.105, and 3041.310; Public Representative: Gregory S. Stanton; Comments Due: September 27, 2024.

8. Docket No(s).: MC2024-715 and K2024-8; Filing Title: USPS Request to Add Priority Mail Express, Priority Mail & USPS Ground Advantage Contract 364 to Competitive Product List and Notice of Filing Materials Under Seal; Filing Acceptance Date: September 19, 2024; Filing Authority: 39 U.S.C. 3642, 39 CFR 3035.105, and 3041.310; Public Representative: Samuel Robinson; Comments Due: September 27, 2024.

9. Docket No(s).: MC2024-716 and K2024-9; Filing Title: USPS Request to Add Priority Mail Express, Priority Mail & USPS Ground Advantage Contract 365 to Competitive Product List and Notice of Filing Materials Under Seal; Filing Acceptance Date: September 19, 2024; Filing Authority: 39 U.S.C. 3642, 39 CFR 3035.105, and 3041.310; Public Representative: Kenneth R. Moeller; Comments Due: September 27, 2024.

10. Docket No(s).: MC2024-717 and K2024-10; Filing Title: USPS Request to Add Priority Mail & USPS Ground Advantage Contract 357 to Competitive Product List and Notice of Filing Materials Under Seal; Filing Acceptance Date: September 19, 2024; Filing Authority: 39 U.S.C. 3642, 39 CFR 3035.105, and 3041.310; Public Representative: Almaroof Agoro; Comments Due: September 27, 2024.

This Notice will be published in the Federal Register.
Erica A. Barker,
Secretary.

[FR Doc. 2024-21961 Filed 9-24-24; 8:45 am]

BILLING CODE 7710-FW-P